DEPARTMENT OF HOMELAND SECURITY

Office of the Secretary

[Docket No. DHS-2012-0047]

Privacy Act of 1974; Department of Homeland Security U.S. Citizenship and Immigration Services (USCIS)—004—Systematic Alien Verification for Entitlements (SAVE) Program System of Records

AGENCY: Privacy Office, Department of Homeland Security.

ACTION: Notice of Privacy Act system of records.

SUMMARY: In accordance with the Privacy Act of 1974, the Department of Homeland Security proposes to update and reissue a current Department of Homeland Security system of records titled, “Department of Homeland Security/United States Citizenship and Immigration Services—004—Systematic Alien Verification for Entitlements Program System of Records.” The United States Citizenship and Immigration Services, Systematic Alien Verification for Entitlements (SAVE) program is a fee-based intergovernmental initiative designed to help federal, state, tribal, and local government agencies check immigration status for granting benefits, licenses, and other lawful purposes. The Department of Homeland Security is updating this Privacy Act System of Records for the SAVE program to provide notice that SAVE is: (1) Adding the collection of the foreign passport country of issuance (COI) from the agencies that issue the benefits and from the United States Visitor and Immigrant Status Indicator Technology (US-VISIT) Arrival and Departure Information System (ADIS) to the “Categories of Records;” (2) moving the list of sources of records from “Category of Records” to “Record Source Categories,” removing two decommissioned systems and adding two new systems from “Record Source Categories;” (3) updating the system location information for the Verification Information System (VIS), the underlying technology supporting the SAVE program, from a contractor-owned facility in Meriden, CT to a government-owned facility in Stennis, MS; (4) incorporating minor changes to the “Routine Uses” to improve clarity; and (5) adding COI to “Retrievability” as a way in which DHS may retrieve records in this system of records. This updated system is included in the Department of Homeland Security's inventory of records systems.

DATES: Submit comments on or before September 7, 2012. This updated system will be effective September 7, 2012.

ADDRESSES: You may submit comments, identified by docket number DHS-2012-0047 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received go to http://www.regulations.gov.

FOR FURTHER INFORMATION CONTACT: For general questions please contact: Brian C. Hobbs, 202-443-0114, Privacy Branch Chief, Verification Division, U.S. Citizenship and Immigration Services, Department of Homeland Security, 131 M Street NE., Suite 200, MS 2600, Washington, DC 20529. For privacy issues please contact: Jonathan R. Cantor (202-343-1717), Acting Chief Privacy Officer, Privacy Office, Department of Homeland Security, Washington, DC 20528.

SUPPLEMENTARY INFORMATION:

I. Background

In accordance with the Privacy Act of 1974, 5 U.S.C. 552a, the Department of Homeland Security (DHS), U.S. Citizenship and Immigration Services (USCIS) proposes to update and re-issue the current DHS system of records titled, “DHS/U.S. Citizenship and Immigration Services—DHS/USCIS-004, Systematic Alien Verification for Entitlement (SAVE) Program System of Records.” The USCIS SAVE program is a fee-based intergovernmental initiative designed to help federal, state, tribal, and local government agencies check immigration status for granting benefits, licenses, and other lawful purposes.

DHS is updating this Privacy Act System of Records Notice for the SAVE Program to provide notice that SAVE is: (1) Adding the collection of the foreign passport country of issuance (COI) from the agencies that issue benefits and from the United States Visitor and Immigrant Status Indicator Technology (US-VISIT) Arrival and Departure Information System (ADIS) to the “Categories of Records;” (2) moving the list of sources of records from “Category of Records” to “Record Source Categories,” removing two decommissioned systems and adding two new systems to “Record Source Categories;” (3) updating the system location information for the Verification Information System (VIS), the underlying technology supporting the SAVE program, from a contractor-owned facility in Meriden, CT to a government-owned facility in Stennis, MS; (4) incorporating minor changes to the “Routine Uses” to improve clarity; and (5) adding COI to “Retrievability” as a way in which DHS may retrieve records in this system of records.

As described in more detail in the DHS/USCIS/PIA-006(a), SAVE currently uses the I-94 number, which is generally issued to aliens at the time they lawfully enter the United States, as a primary identifier to determine immigration status for non-immigrants. U.S. Customs and Border Protection (CBP) is in the process of automating the I-94 system to increase efficiency and streamline the admission process for travelers to the United States. However, since SAVE depends on the integrity of the I-94 number and the CBP's automation efforts are still underway, USCIS is updating its process for SAVE by using a foreign passport number and COI as a primary identifier. A stand-alone passport number does not result in a unique primary identifier because multiple countries could issue the same passport number. Benefit granting agencies will enter the foreign passport number and COI. SAVE will verify this data against ADIS.

In order to provide greater clarity in this SORN, USCIS has removed the sources of records that were described in the “Category of Records” and moved them to “Source Record Categories”. In addition to moving the list of source records, DHS has removed two sources, ISRS and RNACS, and added two new sources of records: (1) Customer Profile Management System (CPMS) for biometric information on individuals issued a Permanent Resident Card (Form I-551) or Employment Authorization Document (Form I-766), and (2) eCISCOR to manually verify the immigration status of benefit applicants.

USCIS is also providing public notice of the relocation of the VIS system. In alignment with OMB's Federal Data Center Consolidation Initiative, the DHS Office of the Chief Information Officer is consolidating 43 of the Department's legacy data centers into two Enterprise Data Centers (EDCs), known as Data Center (DC)1 and DC2. The consolidation of numerous Component systems at our EDCs enables more effective collection and use of business information across the enterprise. VIS was originally stored in a contractor owned facility in Meriden, CT. Since the publication of the original SORN, the system has moved to the DHS-owned facility, DC1.

DHS is updating the routine uses to add additional clarity concerning the uses of data. These updates do not create any new sharing uses of data. The routine uses are being updated to add general language ensuring that “[a]ny disclosure of information must be made consistent with the official duties of the person making the disclosure.” Routine uses A, B, and D are being reworded to provide greater clarity and make non-substantive grammatical changes. Routine use C is being updated to change “other federal government agencies” to “General Services Administration” to better reflect the statutory authorities and the fact that records will be shared with the National Archives and Records Administration (NARA) where NARA maintains the records as permanent records.

DHS is updating “Retreivability” to include COI as a way in which DHS may retrieve records in this system of records.

II. Privacy Act

The Privacy Act embodies fair information practice principles in a statutory framework governing the means by which the federal government agencies collect, maintain, use, and disseminate individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/U.S. Citizenship and Immigration Services (USCIS)—004, Systematic Alien Verification for Entitlements, System of Records.

In accordance with 5 U.S.C. 552a(r), DHS has provided a report of this system of records to the Office of Management and Budget and to Congress.

System of Records

Department of Homeland Security (DHS)/U.S. Citizenship and Immigration Services (USCIS)—004.

System name:

Department of Homeland Security (DHS)/U.S. Citizenship and Immigration Services (USCIS), Systematic Alien Verification for Entitlements (SAVE).

Security classification:

Unclassified, For Official Use Only

System location:

Records are maintained at U.S. Citizenship and Immigration Services Headquarters in Washington, DC, in U.S. Citizenship and Immigration Services field offices, and at the DHS Stennis Data Center (DC1).

Categories of individuals covered by the system:

Categories of individuals covered by this system include both U.S. citizens and non-U.S. citizens covered by provisions of the Immigration and Nationality Act of the United States, including individuals who have been lawfully admitted to the United States, individuals who have been granted or derived U.S. citizenship, and individuals who have applied for other immigration benefits pursuant to 8 U.S.C. 1103 et seq.

Categories of records in the system:

A. Information collected from the benefit applicant by the agency issuing the benefit to facilitate immigration status verification may include the following about the benefit applicant:

• Receipt number

• Alien Number (A-Number)

• Admission number (I-94 number)

• Name (last, first, middle, maiden)

• Date of birth

• Country of birth

• Customer agency case number

• Department of Homeland Security document type

• Department of Homeland Security document expiration date

• U. S. Immigration and Custom Enforcement's (ICE) Student and Exchange Visitor Identification System (SEVIS) ID

• Foreign passport number and Country of Issuance (COI)

• Visa number

• Social Security Number (in very limited circumstances using the Form G-845, Document Verification Request), and type of benefit(s) for which the applicant has applied (e.g., unemployment insurance, educational assistance, driver licensing, etc.).

B. System-generated responses as a result of the SAVE program verification process including case verification number and SAVE program response.

C. The individual information that may be verified through the SAVE program includes:

• Alien Number

• Name (last, first, middle)

• Date of birth

• Date entered into the United States (entry date)

• Country of birth

• Class of admission code

• File control office code

• Social Security Number

• I-94 number

• Provision of law code cited for employment authorization

• Alien's status change date

• Date admitted until, country of citizenship

• Port of entry

• Departure date

• Visa number

• Passport number and country of issuance (COI)

• Passport information

• Passport card number

• Document receipt number

• Form numbers (e.g., Form I-551 Lawful Permanent Resident Card or Form I-766 Employment Authorization Document)

• SEVIS Identification Number (SEVIS ID)

• Naturalization date

• Federal Bureau of Investigation Number (FIN)

• Beneficiary alien number

• Beneficiary date of birth

• Beneficiary country of birth

• Beneficiary Social Security number

• Beneficiary name (last, first, middle)

• Petitioner alien number

• Petitioner Social Security Number

• Petitioner naturalization certificate number

• Petitioner name (last, first)

• Petitioner tax number

• Information may also include spouse's name (last, first, middle), date of birth, country of birth, country of citizenship, class of admission, date of admission, Alien Number, receipt number, phone number, marriage date and place, and naturalization date and place

• Information may also include child's name(s) (last, first, middle), date of birth, country of birth, class of admission, Alien Number

• Employer information: Name, address, supervisor's name, and supervisor's phone number

• Case history: Alerts, case summary comments, case category, date of encounter, encounter information, custody actions and decisions, case actions and decisions, bonds, and photograph, asylum applicant receipt date, airline and flight number, country of residence, city where boarded, city where visa was issued, date visa issued, address while in the United States, nationality, decision memoranda, investigatory reports and materials compiled for the purpose of enforcing immigration laws, exhibits, transcripts, and other case-related papers concerning aliens, alleged aliens, or lawful permanent residents brought into the administrative adjudication process.

Authority for maintenance of the system:

Authority for having a system for verification of immigration status is found in Immigration Reform and Control Act (IRCA), Public Law 99-603, 100 Stat. 3359 (1986); Personal Responsibility and Work Opportunity Reconciliation Act (PRWORA), Public Law 104-193, 110 Stat. 2105 (1996); Title IV, Subtitle A, of Illegal Immigration Reform and Immigrant Responsibility Act (IIRIRA), Public Law 104-208, 110 Stat. 3009 (1997); and the REAL ID Act of 2005, Public Law 109-13, 119 Stat. 231 (2005).

Purpose(s):

The purpose of the Systematic Alien Verification for Entitlements (SAVE) program is to provide a fee-based intergovernmental service, which assists federal, state, tribal, or local government agencies, or contractors acting on the agency's behalf, and licensing bureaus confirm immigration status information, to the extent that such disclosure is necessary to enable these agencies to make decisions related to: (1) Determining eligibility for a federal, state, or local public benefit; (2) issuing a license or grant; (3) issuing a government credential; (4) conducting a background investigation; or (5) any other lawful purpose.

Routine uses of records maintained in the system, including categories of users and the purposes of such uses:

In addition to those disclosures generally permitted under 5 U.S.C. 552a(b) of the Privacy Act, all or a portion of the records or information contained in this system may be disclosed outside the Department of Homeland Security as a routine use pursuant to 5 U.S.C. 552a(b)(3). Any disclosure of information must be made consistent with the official duties of the person making the disclosure. The routine uses are as follows:

A. To the Department of Justice (DOJ), including U.S. Attorney Offices, or other federal agency conducting litigation or in proceedings before any court, adjudicative or administrative body, when it is relevant or necessary to the litigation and one of the following is a party to the litigation or has an interest in such litigation:

1. DHS or any component thereof;

2. Any employee of DHS in his/her official capacity;

3. Any employee of DHS in his/her individual capacity where DOJ or DHS has agreed to represent the employee; or

4. The U.S. or any agency thereof.

B. To a congressional office from the record of an individual in response to a written inquiry from that congressional office made pursuant to a Privacy Act waiver from the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To approved federal, state, and local government agencies for any legally mandated purpose in accordance with their authorizing statute or law and where an approved Memorandum of Agreement or Computer Matching Agreement (CMA) is in place between DHS and the entity.

I. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name of applicant or other unique identifier to include: Verification Number, Alien Number, I-94 Number, Social Security Number, Passport Number and Country of Issuance (COI), Visa Number, SEVIS Identification, or by the submitting agency name.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

The retention and disposal schedule, N1-566-08-7, has been approved by the National Archives and Records Administration. Records collected in the process of enrolling in SAVE and in verifying citizenship or immigration status are stored and retained in SAVE for ten (10) years from the date of the completion of verification, unless the records are part of an ongoing investigation in which case they will be retained until completion of the investigation. This period is based on the statute of limitations for most types of misuse or fraud possible using SAVE (under 18 U.S.C. 3291, the statute of limitations for false statements or misuse regarding passports, citizenship, or naturalization documents).

System Manager and address:

Chief, Verification Division, U.S. Citizenship and Immigration Services, 131 M Street NE., Suite 200, Mail Stop 200, Washington, DC 20529.

Notification procedure:

Individuals seeking notification of and access to any record contained in this system of records, or seeking to contest its content, may submit a request in writing to the USCIS's FOIA Officer, whose contact information can be found at http://www.dhs.gov/foia under “contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information the component(s) may not be able to conduct an effective search, and your request may be denied due to lack of specificity or lack of compliance with applicable regulations.

Record access procedures:

See “Notification procedure” above.

Contesting record procedures:

See “Notification procedure” above.

Record source categories:

Records are obtained from several sources to include:

(A) Agencies seeking to determine immigration status;

(B) Individuals seeking public licenses, benefits, or credentials;

• (C) Information collected from the Federal databases listed below: Arrival/Departure Information System (ADIS),

• Central Index System (CIS)

• Computer-Linked Application Information Management System 3 & 4 (CLAIMS 3 & CLAIMS 4)

• Customer Profile Management System (CPMS)

• Customs and Border Protection's (CBP) Nonimmigrant Information System and Border Crossing Information (NIIS and BCI)

• Enforcement Integrated Database (EID)

• Enforcement Alien Removal Module (EARM)

• Enterprise Citizenship and Immigration Services Centralized Operational Repository (eCISCOR)

• Enterprise Document Management System (EDMS)

• Marriage Fraud Amendment System (MFAS)

• Microfilm Digitization Application System (MiDAS)

• National File Tracking System (NFTS)

• Refugees, Asylum, and Parole System (RAPS)

• Student and Exchange Visitor Identification System (SEVIS)

• Immigration status (e.g., Lawful Permanent Resident) from the Department of Justice Executive Office of Immigration Review (EOIR), System and the Department of State the Consular Consolidated Database (DOS-CCD).

(D) Information created by the Systematic Alien Verification for Entitlements (SAVE) program.

Exemptions claimed for the system:

None.

Dated: July 27, 2012.
Mary Ellen Callahan,
Chief Privacy Officer, Department of Homeland Security.

[FR Doc. 2012-19207 Filed 8-7-12; 8:45 am]

BILLING CODE 9111-97-P